Title 3—

The President

Proclamation 9837 of January 18, 2019

National School Choice Week, 2019

By the President of the United States of America

A Proclamation

A great education provides students with a foundation to pursue the American Dream of a hopeful and prosperous future. During National School Choice Week, we reaffirm our commitment to enable all students to pursue the education that will best equip them for success in work and life.

Every child deserves the chance to flourish in an educational environment that best leverages their unique learning style, cultivates their talent, and develops the skills needed to succeed in an ever-changing world. Likewise, teachers deserve the chance to innovate in the classroom and do their best work. Yet, today's system often falls short of what students and teachers need and deserve, and often makes it too hard for families and educators to create the best learning experience for each child. The results tell the unfortunate story: recent international surveys ranked the United States 24th in reading, 25th in science, and 40th in math. These results were not the result of incapable children; they were the consequence of the limitations imposed by a largely one-size-fits-all approach to education.

Education should inspire wonder, stimulate curiosity, and spark a lifelong desire in our children to learn and grow. Increased educational options—including through out-of-zone public schools, public charter schools, magnet schools, sectarian and secular private schools, home schools, and online education programs—have expanded opportunities for students regardless of background or economic status. We should all work to ensure all children receive great educations, regardless of where they live, how much their family makes, or how they best learn.

My Administration knows that choice in education plays a vital role in the success of our children and our country. The number of students receiving a D.C. Opportunity Scholarship has increased by nearly 50 percent under my Administration. In last year's enactment of the historic Tax Cuts and Jobs Act, we improved 529 plans so that they may cover elementary and secondary school tuition. Family demand for public charter schools has continued to grow. And, importantly, we have encouraged States, local communities, and families to refocus education policy where it belongs—on what is best for each child.

We commend our Nation's families, teachers, school leaders, and all those who nobly dedicate their lives to educating the next generation. My Administration will continue to stand with students and their families in the fight for the best educational opportunities for their children.

As our Nation celebrates National School Choice Week, I encourage families to explore new educational opportunities; I urge educators to develop imaginative and innovative pathways to learning; and I challenge students to passionately pursue their goals and dreams with discipline, integrity, and unyielding determination. Lastly, I urge lawmakers in Congress and in the States to embrace and expand education choice, which will strengthen our students, families, educators, communities, and ultimately, our great Nation.

NOW, THEREFORE, I, DONALD J. TRUMP, President of the United States of America, by virtue of the authority vested in me by the Constitution and the laws of the United States, do hereby proclaim January 20 to January 26, 2019, as National School Choice Week.

IN WITNESS WHEREOF, I have hereunto set my hand this eighteenth day of January, in the year of our Lord two thousand nineteen, and of the Independence of the United States of America the two hundred and forty-third.

[FR Doc. 2019-00220

Filed 1-24-19; 8:45 am]

Billing code 3295-F9-P